DEPARTMENT OF AGRICULTURE

Forest Service

Ochoco National Forest, Lookout Mountain Ranger District; Oregon; Bear Creek Allotment Management Plans EIS

AGENCY: Forest Service, USDA.

ACTION: Notice of intent to prepare an environmental impact statement.

SUMMARY: The Ochoco National Forest is preparing an environmental impact statement (EIS) to analyze the effects of changing grazing management in four grazing allotments on the Ochoco National Forest. These four allotments are Bear Creek, Elkhorn, Snowshoe, and Trout Creek. The proposed action would reauthorize term grazing permits, make rangeland improvements, manage livestock use and distribution to facilitate the improvement of riparian conditions, including streambank stability, riparian vegetation, and water temperature, and would conduct riparian restoration activities on some streams in the project area. These actions are needed to achieve and maintain consistency with the Ochoco National Forest Land and Resource Management Plan, as amended.

DATES: Comments concerning the scope of the analysis must be received by March 31, 2014. The draft environmental impact statement is expected to be completed and available for public comment in January, 2015. The final environmental impact statement is expected to be completed in May, 2015.

ADDRESSES: Send written comments to Slater Turner, District Ranger, Lookout Mountain District, Ochoco National Forest, 3160 NE Third Street, Prineville, Oregon 97754. Alternately, electronic comments may be sent to comments-pacificnorthwest-ochoco@fs.fed.us. Electronic comments must be submitted as part of the actual email message, or as an attachment in plain text (.txt), Microsoft Word (.doc), rich text format (.rtf), or portable document format (.pdf).

FOR FURTHER INFORMATION CONTACT: Tory Kurtz, Project Leader, at 3160 NE Third Street, Prineville, Oregon 97754, or at (541) 416-6407, or by email at tlkurtz@fs.fed.us.

SUPPLEMENTARY INFORMATION:

Purpose and Need for Action

The purpose of this proposal is to reauthorize livestock grazing consistent with Forest Plan standards and guidelines. Based on surveys, conditions on some streams in the project area are not consistent with desired condition; there is a need to make range improvements and change livestock management to move towards desired conditions for stream shade, bank stability and width-to-depth ratio. Livestock grazing is one of the factors that can contribute to altered riparian function. Active riparian restoration activities will facilitate the achievement of the desired condition.

Proposed Action

The proposed action includes a variety of pasture-specific management strategies and activities, including active management of livestock, relocation or reconstruction of existing water developments, planting of riparian hardwoods, placing logs and rocks in and along stream channels, and protection of riparian vegetation and streambanks.

Bear Creek Allotment

• The allotment would continue to consist of 11,158 acres divided between three pastures: North Bear, South Bear and Dodd's.

• Either cattle or sheep grazing would be authorized, as follows:

○ The current permitted amount of 685 AUMs with 132 cow/calf pair from June 5 to September 30 would be authorized;

○ OR ewe/lamb livestock kind may be used instead of cow/calf pair; a permitted amount of 1,298 AUMs with 1,100 ewe/lamb pairs from June 5 to September 30 would be authorized.

• Existing structural improvements would be reauthorized including 16 troughs, 8 reservoirs and approximately 21 miles of fence.

• Approximately 12 miles of fence would be reauthorized; (interior fence lines would not be required with ewe/lamb pairs since there is a herder).

• The grazing system for cattle would be a three pasture rotation, deferring North Bear and South Bear pastures each year and utilizing Dodd's pasture last each year.

• Active management of livestock would be required for cattle.

• The grazing system for ewe/lamb pairs would be a herded system with the following rules:

○ Sheep would not be grazed within a minimum of ¼ mile of anadromous fish-bearing streams prior to July 15th.

○ Siesta or bedding places would be far from open roads, streams, new plantations, aspen stands, heritage sites and prairies, and would not be located in riparian areas or scablands.

○ The sheep would not take siesta or bedding at the same place more than once per grazing season.

○ Salt and supplements would be placed in portable containers, on rocks, sawed tree trunks and fallen tree trunks, and would be located away from roads and generally ¼ mile away from Riparian Habitat Conservation Areas (RHCAs) and scablands.

○ Streams containing anadromous fish habitat would not be used prior to July 15th; off-source water including water brought in by truck would be used prior to July 15th.

○ Drafting for water would not occur in streams that are occupied by steelhead.

• Aspen stands identified in the field would be protected and enhanced through conifer thinning and utilization of thinned materials, prescribed fire, and mechanical treatment. Exclosures may be used when thinning and placement of thinned materials to protect aspens stands is not found to provide adequate protection.

Elkhorn Allotment

• The allotment would continue to consist of 9,620 acres divided between four pastures: Bridge Creek, Elkhorn, Indian Prairie and Val Trail.

• The current permitted amount of 1,378 AUMs with 290 cow/calf pair from June 15 to September 30 would be authorized.

• Existing structural improvements would be reauthorized including 30 troughs and approximately 18 miles of fence.

• The grazing system would be a three pasture rotation using Elkhorn first to decrease the spread of Cynoglossum officinale (houndstongue) infestations, Val Trail pasture and utilizing Bridge Creek pasture last each year. Indian Prairie pasture would be used as needed for gathering and holding.

• Active management of livestock would be required.

• Trailing routes and anticipated crossings between pastures would be identified for Cynoglossum officinale (houndstongue) infestations and other listed non-native invasive plants and routes and crossings would either be avoided, relocated or be a priority for treatment.

• Aspen stands identified in the field would be protected and enhanced through conifer thinning and utilization of thinned materials, prescribed fire, and mechanical treatment. Exclosures may be used when thinning and placement of thinned materials to protect aspens stands is not found to provide adequate protection.

Snowshoe Allotment

• The allotment would continue to consist of 2,711 acres divided between two pastures: North Nature Creek and Snowshoe.

• The current permitted amount of 343 AUMs with 156 cow/calf pair from August 12 to September 30 would be authorized.

• Existing structural improvements would be reauthorized including 10 troughs and approx. 9.25 miles of fence.

• The grazing system would be a two pasture rotation deferring Snowshoe pasture each year until after July 15th at the earliest.

• Active management of livestock would be required.

• Trailing routes and anticipated crossings between pastures would be identified for Cynoglossum officinale (houndstongue) infestations and other listed non-native invasive plants and routes and crossings would either be avoided, relocated or be a priority for treatment.

• Existing aspen stands identified in the field would be protected and enhanced through conifer thinning and utilization of thinned materials, prescribed fire, and mechanical treatment. Exclosures may be used when thinning and placement of thinned materials to protect aspens stands is not found to provide adequate protection.

Trout Creek Allotment

• The allotment would consist of 21,370 acres.

• The current permitted amount of 1,797 AUMs with 1,953 ewe/lamb pairs from June 16 to September 15 would be authorized.

• Existing structural improvements would be reauthorized including 22 troughs, 5 ponds, and approx. 20 miles of fence.

• The grazing system for ewe/lamb pairs would be a herded system with the following rules:

○ Sheep would not be grazed within a minimum of ¼ mile of anadromous fish-bearing streams prior to July 15th.

○ Siesta or bedding places would be far from open roads, streams, new plantations, aspen stands, heritage sites and prairies, and would not be located in riparian areas or scablands.

○ The sheep would not take siesta or bedding at the same place more than once per grazing season.

○ Salt and supplements would be placed in portable containers, on rocks, sawed tree trunks and fallen tree trunks, and would be located away from roads and generally ¼ mile away from Riparian Habitat Conservation Areas (RHCAs) and scablands.

○ Streams containing anadromous fish habitat would not be used prior to July 15th; off-source water including water brought in by truck would be used prior to July 15th.

○ Drafting for water would not occur in streams that are occupied by steelhead.

• Twenty-five water developments would be reconstructed and associated springs would be protected as needed.

• Two water developments would be removed and their sites restored to a natural state.

• Existing aspen stands identified in the field would be protected and enhanced through conifer thinning and utilization of thinned materials, prescribed fire, and mechanical treatment. Exclosures may be used when thinning and placement of thinned materials to protect aspens stands is not found to provide adequate protection.

• Juniper up to 12″ diameter would be mechanically thinned and/or thinned by prescribed fire.

• An approximately 2-acre aspen stand would be enhanced and protected through conifer thinning and utilization of thinned materials, prescribed fire and mechanical treatment. Exclosures may be used when thinning and placement of thinned materials to protect aspens stands is not found to provide adequate protection.

• Bedding/camping areas would be monitored for known Taeniatherum caput-medusae (medusahead) populations. Trailing routes onto the allotment would be identified for listed non-native invasive plants.

• Riparian restoration activities would take place where necessary on 4.5 miles of Little McKay Creek and tributaries; activities would include in-stream placement of wood and/or rock structures, filling and connecting floodplains, planting hardwoods, and creating physical barriers (such as wood, rock or fences) to protect hardwoods and improve bank stability, conifer thinning to improve RHCA stand conditions and utilization of thinning materials for in-stream placement and improved bank stability. Wood and physical barrier material may come from on-site.

• An alternative grazing plan would be included to have two total grazing plans that can be alternated.

Possible Alternatives

In addition to the Proposed Action and any alternative that is developed following this scoping effort, the project interdisciplinary team will analyze the effects of:

• No Action alternative: No grazing permits would be reauthorized; cattle would be removed from all allotments within two years.

• Current management alternative: Permits would be reauthorized at current levels; there would be no new water developments, no riparian restoration, and there would be no requirement for permittees to move livestock out of sensitive areas, except as required by current permits.

Responsible Official

The responsible official will be District Ranger, Lookout Mountain Ranger District, Ochoco National Forest, 3160 NE Third Street, Prineville, Oregon 97754.

Nature of Decision To Be Made

Given the purpose and need, the deciding official will review the proposed action, the other alternatives, and the environmental consequences in order to make the following decisions:

• Whether and under what circumstances grazing will be reauthorized in the Bear Creek, Elkhorn, Snowshoe, and Trout Creek allotments.

• Whether and under what circumstances range improvements will be constructed.

• Whether and under what circumstances riparian restoration activities will be implemented.

Preliminary Issues

Preliminary issues identified include the potential effect of the proposed action on livestock grazing, heritage resources, fisheries, water quality, sensitive plants, and on the introduction and/or spread of invasive plants, as well as the cumulative effects of the proposed action where the effects of associated activities overlap with the effects of other management activities.

Scoping Process

Public comments about this proposal are requested in order to assist in identifying issues, determining how to best manage the resources, and focusing the analysis. Comments received to this notice, including names and addresses of those who comment, will be part of the public record for this proposed action. Comments submitted anonymously will be accepted and considered; however, anonymous comments will not provide the Agency with the ability to provide the respondent with subsequent environmental documents.

Dated: February 21, 2014.
Slater R. Turner,
District Ranger.

[FR Doc. 2014-04394 Filed 2-27-14; 8:45 am]

BILLING CODE 3410-11-P